FEDERAL RESERVE SYSTEM

Change in Bank Control Notices; Formations of, Acquisitions by, and Mergers of Bank Holding Companies; Correction

AGENCY: Federal Reserve System.

ACTION: Notice; correction.

SUMMARY: This notice corrects a notice (FR Doc. 2014-20383) published on page 51167 of the issue for Wednesday, August 27, 2014.

Correction

Under the Federal Reserve Bank of Dallas heading, the entry for George V. Deaton and Russell E. Deaton, both of Paducah, Texas, is revised to read as follows:

1. George V. Deaton and Russell E. Deaton, both of Paducah, Texas, jointly; to acquire voting shares of First Paducah Bancshares, Inc., and thereby indirectly acquire voting shares of First National Bank, both in Paducah, Texas.

Comments on this application must be received by September 11, 2014.

Board of Governors of the Federal Reserve System, August 27, 2014.
Michael J. Lewandowski,
Associate Secretary of the Board.

[FR Doc. 2014-20794 Filed 8-29-14; 8:45 am]

BILLING CODE 6210-01-P